DEPARTMENT OF COMMERCE

Foreign-Trade Zones Board

[B-9-2017]

Foreign-Trade Zone (FTZ) 8—Toledo, Ohio Notification of Proposed Production Activity Whirlpool Corporation (Washing Machines) Clyde and Green Springs, Ohio

Whirlpool Corporation (Whirlpool) submitted a notification of proposed production activity to the FTZ Board for its facilities in Clyde and Green Springs, Ohio within Subzone 8I. The notification conforming to the requirements of the regulations of the FTZ Board (15 CFR 400.22) was received on January 27, 2017.

Whirlpool already has authority to produce standard and high capacity washing machines using certain imported components within Subzone 8I. The current request would add foreign status materials/components to the scope of authority. Pursuant to 15 CFR 400.14(b), additional FTZ authority would be limited to the specific foreign-status materials/components described in the submitted notification (as described below) and subsequently authorized by the FTZ Board.

Production under FTZ procedures could exempt Whirlpool from customs duty payments on the foreign-status materials/components used in export production. On its domestic sales, Whirlpool would be able to choose the duty rates during customs entry procedures that apply to the washing machines and related parts in the company's existing scope of authority (duty rate ranges from duty-free to 6.7%) for the foreign-status materials/components noted below. Customs duties also could possibly be deferred or reduced on foreign-status production equipment.

The materials/components sourced from abroad include: Plastic (PVC) inlet hoses; endless transmission belts; spring and support assemblies; and, knob assemblies (duty rate ranges from 2.8 to 3.9%).

Public comment is invited from interested parties. Submissions shall be addressed to the Board's Executive Secretary at the address below. The closing period for their receipt is March 20, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: January 31, 2017.
Andrew McGilvray,
Executive Secretary.

[FR Doc. 2017-02526 Filed 2-6-17; 8:45 am]

BILLING CODE 3510-DS-P